DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of 10 individuals and nine entities whose property and interests in property have been blocked pursuant to the Foreign Narcotics Kingpin Designation Act (“Kingpin Act”) (21 U.S.C. §§ 1901-1908, 8 U.S.C. § 1182).

DATES: The designation by the Director of OFAC of the 10 individuals and nine entities identified in this notice pursuant to section 805(b) of the Kingpin Act is effective on July 24, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On July 24, 2012, the Director of OFAC designated the following 10 individuals and nine entities whose property and interests in property are blocked pursuant to section 805(b) of the Kingpin Act.

Individuals

1. ARAUJO MONZON, Elvira, Avenida Ramon Lopez Velarde No. 3240, Colonia Presidentes de Mexico, Culiacan, Sinaloa, Mexico; DOB 25 Jan 1961; POB Bacacoragua, Badiraguato, Sinaloa, Mexico; R.F.C. AAME610125-QP6 (Mexico); C.U.R.P. AAME610125MSLRNL05 (Mexico) (individual) [SDNTK] Linked To: ESTACIONES DE SERVICIOS CANARIAS, S.A. DE C.V.; Linked To: GASOLINERA ALAMOS COUNTRY, S.A. DE C.V.; Linked To: GASOLINERA Y SERVICIOS VILLABONITA, S.A. DE C.V.

2. ESPARRAGOZA GASTELUM, Nadia Patricia, Anillo de Periferico Sur No. 4863 Interior 902, Colonia Tepepan, Delegacion Tlalpan, Mexico City, Distrito Federal C.P. 14610, Mexico; Calle Chichen Itza No. 4644, Colonia Mirador del Sol, Zapopan, Jalisco C.P. 45054, Mexico; Calle Morelos No. 2223, Colonia Arcos Vallarta, Guadalajara, Jalisco C.P. 44130, Mexico; Avenida de la Patria No. 685 Interior 1, Fraccionamiento Jardines Universidad, Zapopan, Jalisco, Mexico; DOB 19 Apr 1976; POB Guadalajara, Jalisco, Mexico; R.F.C. EAGN760419LC8 (Mexico); C.U.R.P. EAGN760419MJCSSD05 (Mexico) (individual) [SDNTK] Linked To: GRUPO CINJAB, S.A. DE C.V.; Linked To: GRUPO IMPERGOZA, S.A. DE C.V.

3. ESPARRAGOZA GASTELUM, Brenda Guadalupe, Calle Calkini Manzana 11 Lote 1, Colonia Residencia Sol del Mayab, Benito Juarez, Quintana Roo C.P. 77533, Mexico; Calle Morelos No. 2223, Colonia Arcos Vallarta, Guadalajara, Jalisco C.P. 44130, Mexico; Circuito Fuentes de Pedregal No. 478 Interior 1103, Colonia Fuentes de Pedregal, Delegacion Tlalpan, Mexico City, Distrito Federal C.P. 14140, Mexico; Avenida de la Patria No. 685 Interior 1, Fraccionamiento Jardines Universidad, Zapopan, Jalisco, Mexico; DOB 27 Mar 1978; POB Guadalajara, Jalisco, Mexico; R.F.C. EAGB780327UB5 (Mexico); C.U.R.P. EAGB780327MJCSSR11 (Mexico) (individual) [SDNTK] Linked To: GRUPO IMPERGOZA, S.A. DE C.V.

4. ESPARRAGOZA GASTELUM, Juan Ignacio, Avenida de la Patria No. 685 Interior 1, Fraccionamiento Jardines Universidad, Zapopan, Jalisco, Mexico; Calle Gutierrez Zamora No. 223, Fraccionamiento Las Aguilas, Delegacion Alvaro Obregon, Mexico City, Distrito Federal C.P. 01020, Mexico; DOB 12 Nov 1972; POB San Luis Rio Colorado, Sinaloa, Mexico; R.F.C. EAGJ721112CI2 (Mexico) (individual) [SDNTK] Linked To: GRUPO IMPERGOZA, S.A. DE C.V.

5. ESPARRAGOZA GASTELUM, Cristian Ivan, Avenida de la Patria No. 685 Interior 1, Fraccionamiento Jardines Universidad, Zapopan, Jalisco, Mexico; Calle Bulgaria No. 139 Interior 4, Colonia Portales, Delegacion Benito Juarez, Mexico City, Distrito Federal C.P. 03300, Mexico; Calle Rumania No. 10, Colonia Portales, Delegacion Benito Juarez, Mexico City, Distrito Federal C.P. 03300, Mexico; Calle Sierra Gorda No. 37 Interior 60, Colonia Lomas de Chapultepec, Delegacion Miguel Hidalgo, Mexico City, Distrito Federal C.P. 11000, Mexico; DOB 17 Jan 1981; POB Guadalajara, Jalisco, Mexico; R.F.C. EAGC810117AY8 (Mexico); C.U.R.P. EAGC810117HJCSSR07 (Mexico) (individual) [SDNTK] Linked To: GRUPO CINJAB, S.A. DE C.V.; Linked To: GRUPO IMPERGOZA, S.A. DE C.V.

6. GASTELUM PAYAN, Maria Guadalupe, Avenida Camino a la Tijera No. 806, Fraccionamiento La Tijera, Tlajomulco de Zuniga, Jalisco, Mexico; Calle Chichen Itza No. 4644, Colonia Mirador del Sol, Zapopan, Jalisco C.P. 45054, Mexico; Calle Morelos No. 2223, Colonia Arcos Vallarta, Guadalajara, Jalisco C.P. 44130, Mexico; DOB 30 Aug 1949; POB Pericos, Sinaloa, Mexico; R.F.C. GAPG4908307H1 (Mexico); C.U.R.P. GAPG490830MSLSYD06 (Mexico) (individual) [SDNTK] Linked To: GRUPO IMPERGOZA, S.A. DE C.V.

7. GONZALEZ PARADA, Juvencio Ignacio; DOB 09 Jan 1947; POB Tepeaca, Puebla, Mexico; C.U.R.P. GOPJ470109HPLNRV00 (Mexico) (individual) [SDNTK] Linked To: GRUPO CINJAB, S.A. DE C.V.; Linked To: GRUPO IMPERGOZA, S.A. DE C.V.

8. GUZMAN OCHOA, Ulises, Calle Golfo de California No. 1585, Colonia Nuevo Culiacan, Culiacan, Sinaloa, Mexico; DOB 03 Jun 1975; POB Culiacan, Sinaloa, Mexico; C.U.R.P. GUOU750603HSLZCL08 (Mexico) (individual) [SDNTK] Linked To: GASODIESEL Y SERVICIOS ANCONA, S.A. DE C.V.; Linked To: GASOLINERA ALAMOS COUNTRY, S.A. DE C.V.; Linked To: GASOLINERA Y SERVICIOS VILLABONITA, S.A. DE C.V.; Linked To: PETROBARRANCOS, S.A. DE C.V.; Linked To: SERVICIOS CHULAVISTA, S.A. DE C.V.

9. MONZON ARAUJO, Ofelia, Calle Bahia de Topolobampo No. 1628, Colonia Nuevo Culiacan, Culiacan, Sinaloa, Mexico; Boulevard Pedro Infante No. 3050, Colonia Recursos Hidraulicos, Culiacan, Sinaloa C.P. 80100, Mexico; DOB 06 Apr 1952; alt. DOB 06 Apr 1953; POB Bacacoragua, Badiraguato, Sinaloa, Mexico; R.F.C. MOAO520406F27 (Mexico); alt. R.F.C. MOAO-530406 (Mexico); C.U.R.P. MOAO520406MSLNRF03 (Mexico) (individual) [SDNTK] Linked To: ESTACIONES DE SERVICIOS CANARIAS, S.A. DE C.V.; Linked To: GASOLINERA ALAMOS COUNTRY, S.A. DE C.V.; Linked To: GASOLINERA Y SERVICIOS VILLABONITA, S.A. DE C.V.

10. PONCE FELIX, Martin Humberto, Calle Rodolfo G. Robles No. 40, Colonia Centro, Culiacan, Sinaloa, Mexico; Calle Jardines No. 2413 Interior 27, Colonia Los Patios, Culiacan, Sinaloa C.P. 80100, Mexico; DOB 04 Sep 1964; POB Culiacan, Sinaloa, Mexico; R.F.C. POFM640904874 (Mexico); C.U.R.P. POFM640904HSLNLR08 (Mexico) (individual) [SDNTK] Linked To: BUENOS AIRES SERVICIOS, S.A. DE C.V.; Linked To: ESTACIONES DE SERVICIOS CANARIAS, S.A. DE C.V.; Linked To: GASODIESEL Y SERVICIOS ANCONA, S.A. DE C.V.; Linked To: SERVICIOS CHULAVISTA, S.A. DE C.V.

Entities

1. BUENOS AIRES SERVICIOS, S.A. DE C.V., Blvd. Guillermo Batiz Paredes No. 1100, Col. Buenos Aires, Culiacan, Sinaloa C.P. 80199, Mexico; R.F.C. BAS-960417-PY6 (Mexico) [SDNTK].

2. ESTACIONES DE SERVICIOS CANARIAS, S.A. DE C.V., Blvd. Enrique Felix Castro No. 1029, Col. Desarrollo Urbano Tres Rios, Culiacan, Sinaloa C.P. 80020, Mexico; R.F.C. ESC-100224-2J9 (Mexico) [SDNTK].

3. GASODIESEL Y SERVICIOS ANCONA, S.A. DE C.V., Manuel J. Clouthier No. 1800, Col. Libertad, Culiacan, Sinaloa C.P. 80180, Mexico; R.F.C. GSA-100223-M92 (Mexico) [SDNTK].

4. GASOLINERA ALAMOS COUNTRY, S.A. DE C.V., Blvd. Pedro Infante No. 3050, Col. Recursos Hidraulicos, Culiacan, Sinaloa C.P. 80100, Mexico; R.F.C. GAC-100224-GDA (Mexico) [SDNTK].

5. GASOLINERA Y SERVICIOS VILLABONITA, S.A. DE C.V., Av. Alvaro Obregon No. 6040, Col. Villa Bonita, Culiacan, Sinaloa C.P. 80000, Mexico; R.F.C. GSV-100224-773 (Mexico) [SDNTK].

6. GRUPO CINJAB, S.A. DE C.V. (a.k.a. PROVENZA RESIDENCIAL), Av. Adolfo Lopez Mateos No. 5555, Col. Santa Anita, Tlajomulco de Zuniga, Jalisco C.P. 46645, Mexico; R.F.C. GCI-080604-891 (Mexico) [SDNTK].

7. GRUPO IMPERGOZA, S.A. DE C.V. (a.k.a. LA TIJERA PARQUE INDUSTRIAL; a.k.a. PROVENZA CENTER), Av. Adolfo Lopez Mateos No. 5565, Col. Santa Anita, Tlajomulco de Zuniga, Jalisco C.P. 46645, Mexico; Av. Camino A La Tijera No. 806, Col. La Tijera, Tlajomulco de Zuniga, Jalisco C.P. 45645, Mexico; R.F.C. GIM-081015-SIA (Mexico) [SDNTK].

8. PETROBARRANCOS, S.A. DE C.V., Av. Benjamin Hill No. 5602, Col. Industrial el Palmito, Culiacan, Sinaloa C.P. 80160, Mexico; R.F.C. PET-990309-G64 (Mexico) [SDNTK].

9. SERVICIOS CHULAVISTA, S.A. DE C.V., Blvd. Las Torres No. 2622 Pte., Fracc. Prados del Sol, Culiacan, Sinaloa C.P. 80197, Mexico; Calzada Las Torres S/N, Col. Prados del Sol Etapa 1, Culiacan, Sinaloa, Mexico; R.F.C. SCU-070904-T25 (Mexico) [SDNTK].

Dated: July 24, 2012.
Adam J. Szubin,
Director, Office of Foreign Assets Control.

[FR Doc. 2012-18485 Filed 7-27-12; 8:45 am]

BILLING CODE 4810-AL-P